ENVIRONMENTAL PROTECTION AGENCY

[FRL-6713-9]

Federal Agency Hazardous Waste Compliance Docket

AGENCY: Environmental Protection Agency.

ACTION: Notice of twelfth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this twelfth update of the docket and includes facilities not previously listed on the docket and reported to EPA since the last update of the docket, 63 FR 64806, November 23, 1998, which was current as of February 1, 1998. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains 39 additions and 16 deletions since the previous update, as well as numerous other corrections to the docket list. At the time of publication of this notice, the new total number of Federal facilities listed on the docket is 2,205.

DATES: This list is current as of December 1, 1999.

FOR FURTHER INFORMATION CONTACT: Electronic versions of the docket may be obtained at http://www.epa.gov/oeca/fedfac/oversight/oversight.html.

SUPPLEMENTARY INFORMATION:

Table of Contents
1.0 Introduction
2.0 Revisions of the Previous Docket
3.0 Process for Compiling the Updated Docket
4.0 Facilities Not Included
5.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); and November 23, 1998 (63 FR 64806). This notice constitutes the twelfth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988) for a description of the information required under those provisions). Each repository contains the documents submitted to EPA under the reporting provisions and correspondence relevant to the reporting provisions for each facility. Contact the following docket coordinators for information on Regional docket repositories:

Gerado Millan-Ramos (HBS),US EPA Region 1,#1 Congress St., Suite 1100,Boston, MA 02114-2023,(617) 918-1377

Helen Shannon (ERRD),US EPA Region 2,290 Broadway, 18th Floor,New York, NY 10007-1866,(212) 637-4260

Alida Karas (ERRD),US EPA Region 2,290 Broadway,New York, NY 10007-1866,(212) 637-4276

Todd Richardson (3HS50),US EPA Region 3,841 Chestnut Bg.,Philadelphia, PA 19107,(215) 814-5264

Ann Cole (4WD-FFB),US EPA Region 4,61 Forsyth St., SW,Atlanta, GA 30303,(404) 562-9638

Alan Gebien (SE-5J),US EPA Region 5,77 W. Jackson Blvd.,Chicago, IL 60604,(312) 886-1304

Philip Ofosu (6SF-RA),US EPA Region 6,1445 Ross Avenue,Dallas, TX 75202-2733,(214) 665-3178

D. Karla Asberry (FFSC),US EPA Region 7,726 Minnesota Avenue,Kansas City, KS 66101,(913) 551-7595

Stan Zawistowski (EPR-F),US EPA Region 8,999 18th Street, Suite 500,Denver, CO 80202-2466,(303) 312-6255

Avonda East (SFD-8-2),US EPA Region 9,75 Hawthorne Street,San Francisco, CA 94105,(415) 744-2468

Mark Ader (ECL-115),US EPA Region 10,1200 Sixth Avenue,Seattle, WA 98101,(206) 553-1808

Monica Lindeman (ECL, SACU2),US EPA Region 10,1200 Sixth Avenue,Seattle, WA 98101,(206) 553-5113

2.0 Revisions of the Previous Docket

Following is a discussion of the revisions of the previous docket, including additions, deletions, and corrections.

2.1 Additions

Today, 39 facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the 39 facilities being added to the docket, 0 are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs, but that have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (D0D) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility. An operator may be deemed to have jurisdiction, custody, or control over a facility.

2.2 Deletions

Today, 16 facilities are being deleted from the docket for various reasons, such as incorrect reporting of hazardous waste activity, change in ownership, and exemption as an SQG under RCRA (40 Code of Federal Regulations [CFR] Part 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRIS), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Federal Agency Hazardous Waste Compliance Docket Coordinator, Federal Facilities Enforcement Office (Mail Code 2261A), U.S. Environmental Protection Agency 401 M Street, S.W., Washington, D.C. 20460.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this twelfth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the list of facilities classified as no further remedial action planned (NFRAP) are not being published today. However, the lists are available to interested parties and can be obtained by calling the HQ Docket Coordinator at (202) 564-2468. As of today, the total number of Federal facilities that appear on the docket is 2,205.

Dated: June 5, 2000.
Craig E. Hooks,
Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Has 18 Months to Submit PA)

(22) Changing Responsible Federal Agency and Facility Name (New Responsible Federal Agency Has 18 Months to Submit PA)

(23) New Reporting Mechanism Added at Update

(24) Reporting Mechanism Determined to Be Not Applicable After Review of Regional Files

Note: Further information on definitions of categories can be obtained by calling the HQ Docket Coordinator at (202) 564-2468.

Federal Agency Hazardous Waste Compliance Docket Update #12 Additions
Facility name | Facility address | City | State | Zip code | Agency | Reporting mechanism | Correction code
FS-TONGASS NF: BOHEMIA BASIN EXPLORATION CAMPS | E SIDE YAKOBY ISLAND, N END LISLANSKY STRAIT | HOONAH | AK | 99829 | AGRICULTURE | 103c | 19A
BLM-SOURDOUGH LITTLE BEAR CAMP | RICHARDSON HWY 35 MI N OF GLENNALLEN | GLENNALLEN | AK | 99588 | INTERIOR | 103c | 19A
FWS-ALASKA MARITIME NWR: TIGALDA ISLAND AWS | 30 MI E OF KUTAN 54°04′48″ N, 165°03′27″ W | AKUTAN | AK | 99553 | INTERIOR | 103c | 19A
NPS-CAPE KRUSENSTERN NM: MULGRAVE AFS | 30 MI NW OF KOTZEBUE 67°35′00″ N, 163°59′00″ W 188 NORTHWEST ARCTIC | KOTZEBUE | AK | 99752 | INTERIOR | 103c | 19A
NPS-KATMAI NP: BROOKS CAMP | 30 MI W OF CY, NAKNEK LAKE | KING SALMON | AK |  | INTERIOR |  | 19A
NPS-NOATAK NP&P: BURIAL LAKE MILITARY CAMP 7 LANDFILL | T12S R31 W NORTH BOUNDARY, UMIAT MERIDIAN (IN NORTH SLOPE BOROUGH) 68°26′00″ N, 159°10′00″ W 188 NORTHWEST ARCTIC | NOATAK | AK | 99761 | INTERIOR | 103c | 19A
NPS-NOATAK NP&P: DESPERATION LAKE MILITARY CAMP AND LANDFILL | T34N R1W&R1E ON SEC LINE, KATEEL RIVER MERIDIAN 68°19′40″ N, 158°44′53″ W 188 NORTHWEST ARCTIC | NOATAK | AK | 99761 | INTERIOR | 103c | 19A
NPS-NOATAK NP&P: FENIAK LAKE MILITARY CAMP & LANDFILL | T33N R2E&R3E ON SEC LINE, KATEEL RIVER MERIDIAN (IN NORTH SLOPE BOROUGH) 68°15′07″ N, 158°18′38″ W 188 NORTHWEST ARCTIC | NOATAK | AK | 99761 | INTERIOR | 103c | 19A
FDA NATIONAL CENTER FOR TOXICOLOGICAL RESEARCH | 3900 NCTR RD | JEFFERSON | AR | 72079 | HEALTH AND HUMAN SERVICES | 3010 | 19A
EL DORADO NATIONAL FOREST | R14-T14N R10E-T13N R19E-T9N | EL DORADO | CA | 95623 | AGRICULTURE | 103c | 19A
LOS ANGELES AIR FORCE BASE | 2400 E EL SEGUNDO BLVD | EL SEGUNDO | CA | 90245 | AIR FORCE | 3010 | 19A
LOS ANGELES AIR FORCE BASE | 2400 PACIFIC AVE | SAN PEDRO | CA | 90731 | AIR FORCE | 3010 | 19A
US BORDER PATROL STATION | 225 KENNEY | EL CAJON | CA | 92020 | JUSTICE | 103c | 19A
FORT LOGAN NATIONAL CEMETERY | SHERIDAN AND HAMPDEN AVENUE | DENVER | CO | 80236 | VETERANS AFFAIRS | 103c | 19A
US COAST GUARD ACADEMY | MOHEGAN AVE | NEW LONDON | CT | 06320 | TRANSPORTATION | 3005, 3010 | 19A
FS-NATIONAL TREE SEED LAB | RIGGINS MILL RD | DRY BRANCH | GA | 31020 | AGRICULTURE | 3010 | 19A
VA MEDICAL CENTER | 1 FREEDOM WAY | AUGUSTA | GA | 30904 | VETERANS AFFAIRS | 3010 | 19A
US COAST GUARD COMMUNICATIONS CENTER | 900 FERRY STREET | MARSHFIELD | MA | 02050 | TRANSPORTATION | 103c | 19A
US COAST GUARD SUPPORT CENTER | 427 COMMERCIAL ST | BOSTON | MA | 02109 | TRANSPORTATION | 3010 | 19A
US EPA REGION 3 CHEMICAL METALS SITE | 2001 & 2103 ANNAPOLIS RD | BALTIMORE | MD | 21230 | EPA | 3010 | 19A
NIH ANIMAL CENTER | ELMER SCHOOL ROAD | POOLESVILLE | MD | 20837 | HEALTH AND HUMAN SERVICES | 3010 | 19A
FS-BALDWIN ADMIN SITE | 650 N MICHIGAN AVE | BALDWIN | MI | 49304 | AGRICULTURE | 3010 | 19A
DEFENSE REUTILIZATION & MARKETING SERVICES | 74 N WASHINGTON | BATTLE CREEK | MI | 49017 | DEFENSE | 3010 | 19A
172ND AIRLIFT WING | 141 MILITARY DRIVE | JACKSON | MS | 39208 | AIR FORCE | 3010 | 19A
BIA BRANCH OF ROADS CHEU | 371 HWY BLK 6 SHOP 7 MI S | FARMINGTON | NN | 87499 | INTERIOR | 3010 | 19A
BIA CHINLE BOARDING SCHOOL | HWY 191 15 MI N OF CHINLE | MANY FARMS | NN | 86538 | INTERIOR | 3010 | 19A
BIA TUBA CITY INDIAN MEDICAL CENTER | T C 167 N MAIN ST | TUBA CITY | NN | 86045 | INTERIOR | 3010 | 19A
FRANKLIN D ROOSEVELT LIBRARY | 511 ALBANY POST RD | HYDE PARK | NY | 12538 | GENERAL SERVICES ADMINISTRATION | 3010 | 19A
PBS DLA DNSC VOORHEESVILLE DEPOT | 5850 DEPOT RD | ALTAMONT | NY | 12009 | GENERAL SERVICES ADMINISTRATION | 3010 | 19A
LTA, MARION ENGR. DEPOT EAST | ½ MILE EAST OF PATTON PIKE | MARION | OH | 43302 | ARMY | 103c, 3010 | 19A
FORMER LORDSTOWN ORDNANCE DEPOT | 5232 TOD SW NO 11 | WARREN | OH | 44481 | GENERAL SERVICES ADMINISTRATION | 3010 | 19A
BRADFORD ISLAND LANDFILL | T2N R7E S22 S22 SW¼, WILLAMETTE MERIDIAN | CASCADE LOCKS | OR | 97014 | CORPS OF ENGINEERS, CIVIL | 103c | 19A
FORMER BADLANDS BOMBING RANGE (IMPACT AREA) | 15 MILES NORTH OF KYLE | KYLE | SD | 57752 | AIR FORCE | 103c | 19A
FORMER BLACK HILLS ARMY DEPOT | IGLOO | IGLOO | SD | 57735 | AGRICULTURE | 103c | 19A
US COAST GUARD SHORE SIDE DETACHMENT PAR | 700 COAST GUARD RD | BUCHANAN | TN | 38222 | TRANSPORTATION | 3010 | 19A
DEPARTMENT OF COMMERCE | PO BOX 6-F16 | ARLINGTON | VA | 22202 | COMMERCE | 103c | 19A
GODDARD SPACE FLIGHT CENTER WALLOPS FLIGHT FACILITY-ISLAND | ROUTE 803 | WALLOPS ISLAND | VA | 23337 | NASA | 3010, 103a, 103c, 3016 | 16
FLAMINGO BAY ARMY TEST AREAS FORMER FT. SEGARRA | WATER ISLAND | ST. THOMAS | VI |  | INTERIOR | 103c | 19A
SUNDANCE PM-1 SITE | 7 MILES NORTH OF SUNDANCE | SUNDANCE | WY | 82729 | AIR FORCE | 103c | 19A

Federal Agency Hazardous Waste Compliance Docket Update #12 Corrections
| Facility name | Facility address | City | State | Zip code | Agency | Reporting mechanism | Correction code
C | DEWLINE SITE LIZ-2: POINT LAY LLRS | KASEGALIK LAGOON CHUKCHI SEA | POINT LAY | AK + | 99579 | AIR FORCE | 3010, 103c, 3016 | 20A
O | DEWLINE SITE LIZ-2 | KASEGALIK LAGOON-CHUKCHI SEA | POINT LAY | AK | 99766 | AIR FORCE | 3010, 103c, 3016 |
C | FWS-ALASKA MARITIME NWR:GREAT SITKIN ISLAND | 51° 59′ 05″ N, 176° 06′ 26″ W, 25 MI NE OF ADAK | ADAK | AK | 98546 | INTERIOR | 103c | 20A
O | FWS-ALASKA MARITIME NWR: GREAT SITKIN ISLAND | 25 MI NE OF ADAK | ADAK | AK | 99500 | INTERIOR | 103c |
C | BLM-RED DEVIL MINE WASTE POND | S6 MI DOWN KUSKOKWIM RVR FR SLEETMUTE T19N R44W S6, 61° 45′ 50″ N, 157° 17′ 26″ W | RED DEVIL | AK | 99656 | INTERIOR | 3016, 103c | 20A
O | BLM-RED DEVIL MINE WASTE PONDS | T19N R44W S6 SE, 61° 10′ 12″ N, 149° 56′ 40″ W | BETHEL | AK | 99559 | INTERIOR | 3016, 103c |
C | FORMER NAVAL ARCTIC RESEARCH LABORATORY BARROW | MAIN ST, 4 MI N OF CY, 71° 19′ 42″ N, 156° 40′ 18″ W | BARROW | AK | 99723 | NAVY | 103c, 3010 | 20A
O | BARROW NAVAL ARCTIC RESEARCH LABORATORY | MAIN ST, 4 MI N OF CY | BARROW | AK | 99723 | NAVY | 103c, 3010 |
C | REDSTONE ARSENAL | USAMICOM DRSMI-KL | REDSTONE ARSENALAL | 35898 | ARMY | 3005, 3010, 3016, 103c, 103a | 20A
O | REDSTONE ARSENAL MISSILE COMMAND | CMDR USAMICOM DRSMI-K | HUNTSVILLE | AL | 35898 | ARMY3005, 3010, 3016, 103c, 103a |
C | OUTLYING LANDING FIELD BARIN | 2 MILES EAST OF CITY | FOLEY | AL | 36535 | NAVY | 103c | 20A
O | BARIN OUTLYING LANDING FIELD |  | FOLEY | AL |  | NAVY | 103c |
C | USAG FORT HUACHUCA | ATZS EHB | FORT HUACHUCA | AZ | 85613 | ARMY | 3010, 3016, 103c, 103a, 3005 | 20A
O | FORT HUACHUCA | RCRA UNITS | FORT HUACHUCA | AZ | 85613 | ARMY | 3010, 3016, 103c, 103a, 3005 |
C | STANFORD #2 | W/2W/2SW/4 SECTION 31 | YUMA | AZ | 86322 | INTERIOR | 103c | 20A
O | STANFORD #2 | YAVAPAI COUNTY | YUMA | AZ | 86322 | INTERIOR | 103c |
C | AIR FORCE PLANT 42 | 20TH ST E & AVES O & M | PALMDALE | CA | 93550 | AIR FORCE | 3005, 3010, 3016, 103c | 20A
O | PLANT #42 (ROCKWELL INTERNATIONAL) | 2501 E AVE. P | PALMDALE | CA | 93550-0678 | AIR FORCE | 3005, 3010, 3016, 103c |
C | BLM-KERN VALLEY SANITARY LANDFILL | T25S, R33E, N½ SW¼ SEC 35, MDM | KERNVILLE | CA | 93238 | INTERIOR | 103c, 3016 | 20A
O | BLM-KERN VALLEY LANDFILL | T25S, R33E, SEC 35, N½ SW¼ MDM | KERN COUNTY | CA |  | INTERIOR | 103c, 3016
C | NAVAL WEAPONS STATION SEAL BEACH DETACHMENT FALLBROOK | 700 AMMUNITION RD | FALLBROOK | CA | 92028 | NAVY | 103c, 3016, 103a | 20A
O | FALLBROOK ANNEX, NAVAL WEAPONS STATION SEAL BEACH | AMMUNITION RD | FALLBROOK | CA | 92058 | NAVY | 103c, 3016, 103a
C | NAVAL POSTGRADUATE SCHOOL | 1 UNIVERSITY CIR | MONTEREY | CA | 93943 | NAVY | 3010, 3016, 103a, 103c | 20A
O | MONTEREY NAVAL POSTGRADUATE SCHOOL | DEL MONTE AVE | MONTEREY | CA | 93943 | NAVY | 3010, 3016, 103a, 103c
C | U.S. CAPITOL COMPLEX | U.S. CAPITOL BUILDING | WASHINGTON | DC | 20515 | ARCHITECT OF THE CAPITOL | 3010 | 21
O | U.S. CAPITOL COMPLEX | U.S. CAPITOL BUILDING | WASHINGTON | DC | 20515 | INTERIOR | 3010
C | CENTRAL INTELLIGENCE AGENCY HQ | ROUTE 123 | WASHINGTON | DC | 20505 | CIA | 3010 | 20, 20A
O | CENTRAL INTELLIGENCE AGENCY HEADQUARTERS | ROUTE 123 | LANGLEY | VA | 22043 | CIA | 3010, 103c
C | DOVER AIR FORCE BASE | 436 SPTG/CEVR 600 CHEVRON AVENUE | DOVER | DE | 19902 | AIR FORCE | 3005, 3010, 3016, 103c, 103a | 20A
O | DOVER AIR FORCE BASE | 436 SUG/CC | DOVER AFB | DE | 19902 | AIR FORCE | 3005, 3010, 3016, 103c, 103a
C | FORMER ORLANDO NAVAL TRAINING CENTER-CSO | 2850 SEABEE STREET | ORLANDO | FL | 32803 | NAVY | 103c | 20A
O | ORLANDO NAVAL TRAINING CENTER | 8 STREET/NTC | ORLANDO | FL | 30213 | NAVY | 103C, 3010, 103a
C | NAVAL AIR STATION KEY WEST | BLDG A827; BOCA CHICA KEY | KEY WEST | FL | 33040 | NAVY | 3005, 3010, 3016, 103c, 103a | 20A
O | KEY WEST NAVAL AIR STATION-BOCA CHICA | NAVAL AIR STATION | KEY WEST | FL | 33042 | NAVY | 3005, 3010, 3016, 103c, 103a
C | DOBBINS AIR RESERVE BASE | 94 SPTG/CEV | DOBBINS AIR FORCE BASE | GA | 30069 | AIR FORCE | 3016, 103c, 3010 | 20A
O | DOBBINS AIR FORCE BASE | 94 CSG/DE | MARIETTA | GA | 30069 | AIR FORCE | 3016, 103c, 3010
C | USA FORT GORDON & HQ USA SIGNAL CENTER | HQ U.S. ARMY SIGNAL CENTER | FORT GORDON | GA | 30905 | ARMY | 3005, 3010, 3016, 103c, 103a | 20A
O | FORT GORDON AND NATIONAL SIGNAL CENTER | ATZHFE EC | FORT GORDON | GA | 30905 | ARMY | 3005, 3010, 3016, 103c, 103a
C | BLM-BLUE DOME UNAUTHORIZED DUMP | HWY 28, T10N R30E S30 | BLUE DOME | ID | 83464 | INTERIOR | 103c, 3016 | 20A
O | BLM-BLUE DOME UNAUTHORIZED DUMP | T10NR30ESEC30 | BLUE DOME | ID | 83464 | INTERIOR | 103c, 3016
C | BLM-REEDER FLYING SERVICE AIRSTRIP #2 | T9S R12E S13 W½ SE ¼ | BUHL | ID | 83316 | INTERIOR | 103c | 20A
O | BLM-REEDER FLYING SERVICE AIRSTRIP#2 | T9SR12ESEC13 | BUHL | ID | 83316 | INTERIOR | 103c
C | BLM-GRACE ILLEGAL DUMP | T10S R39E S24 NE SE NE | GRACE | ID | 83241 | INTERIOR | 103c | 20A
O | BLM-GRACE ILLEGAL DUMP | T10S,R39E,SEC24 | GRACE | ID | 83241 | INTERIOR | 103c
C | BLM-HAMMETT DUMP | T5S R9E S28 SE NE | HAMMETT | ID | 83627 | INTERIOR | 103c | 20A
O | BLM-HAMMETT DUMP | T5S,R9E,SEC28 | HAMMETT | ID | 83627 | INTERIOR | 103c
C | BLM-PESTCIDE DUMP REYNOLDS | T2S R3W S31 | REYNOLDS | ID | 83650 | INTERIOR | 103c | 20A
O | BLM-PESTICIDE DUMP SITE, REYNOLDS | T2SR3W SEC31 | REYNOLDS | ID | 83650 | INTERIOR | 103c
C | FERMI NATIONAL ACCELERATOR LABORATORY | KIRK RD & PINE ST PO BOX 500 | BATAVIA | IL | 60510 | ENERGY | 3005, 3010, 3016, 103c | 20A
O | FERMI NATIONAL ACCELERATOR LABORATORY | ROUTE 16 & 59 KANE COUNTY | BATAVIA | IL | 60510 | ENERGY | 3005, 3010, 3016, 103c
C | FORMER NAVAL AIR STATION GLENVIEW | FORMER NAVAL AIR STATION GLENVIEW | GLENVIEW | IL | 60026 | NAVY | 3005, 3010, 3016, 103c | 20A
O | GLENVIEW NAVAL AIR STATION | NAVAL AIR STATION | GLENVIEW | IL | 60026 | NAVY | 3005, 3010, 3016, 103c
C | NAVAL TRAINING CENTER GREAT LAKES | 2601 PAUL JONES STREET | GREAT LAKES | IL | 60088 | NAVY | 3005, 3010, 3016, 103c | 20A
O | GREAT LAKES NAVAL TRAINING CENTER | PUBLIC WORKS CENTER NTC SCE, BLDG 1A | GREAT LAKES | IL | 60008 | NAVY | 3005, 3010, 3016, 103c
C | GRISSOM AIR RESERVE BASE | 434 SPTG/CEV | GRISSOM AFB | IN | 46971 | AIR FORCE | 3005, 3010, 3016, 103c, 103a | 20A
O | GRISSOM AIR FORCE BASE | 305TH CSG/DE | GRISSOM AFB | IN | 46971 | AIR FORCE | 3005, 3010, 3016, 103c, 103a
C | INDIANA ARMY AMMUNITION PLANT | 11452 HWY 62 | CHARLESTOWN | IN | 47111 | ARMY | 3005, 3010, 3016, 103c | 20A
O | INDIANA ARMY AMMUNITION PLANT | HIGHWAY 62 CLARK COUNTY | CHARLESTOWN | IN | 47111 | ARMY | 3005, 3010, 3016, 103c
C | NAVAL SURFACE WARFARE CENTER CRANE DIVISION | 300 HWY 361 BLDG 3260 CODE 095 | CRANE | IN | 47522 | NAVY | 3005, 3010, 3016, 103c, 103a | 20A
O | CRANE NAVAL WEAPONS SUPPORT CENTER | BLDG 2516 CODE 092V MARTIN COUNTY | CRANE | IN | 47522 | NAVY | 3005, 3010, 3016, 103c, 103a |
C | MCCONNELL AIR FORCE BASE | 2801 S ROCK RD | WICHITA | KS | 67210 | AIR FORCE | 3005, 3010, 3016, 103c | 20A
O | MCCONNELL AIR FORCE BASE | 384 CSG/DE | WICHITA | KS | 67221 | AIR FORCE | 3005, 3010, 3016, 103c |
C | FORT RILEY 1ST INFANTRY DIV (M) | BLDG 330 DICKMAN AVENUE | FORT RILEY | KS | 66442 | ARMY | 3005, 3010, 3016, 103c, 103a | 20A
O | FORT RILEY 1ST INFANTRY DIV (M) | BLDG 330 | FORT RILEY | KS | 66442 | ARMY | 3005, 3010, 3016, 103c, 103a |
C | HQ,101ST AIRBORNE DIV. (AASLT) FT.CAMPBELL | ATTN AFZB-DPW-E-P | FORT CAMPBELL | KY | 42223 | ARMY | 3005, 3010, 3016, 103c | 20A
O | FORT CAMPBELL | AFZB-FE-ECE | FORT CAMPBELL | KY | 42223 | ARMY | 3005, 3010, 3016, 103c |
C | USAARMC & FORT KNOX | US HWY 32 WEST | FORT KNOX | KY | 40121 | ARMY | 3005, 3010, 3016, 103a, 103c | 20A
O | ARMOR SCHOOL AND CENTER AT FORT KNOX | HWY 31 W | FORT KNOX | KY | 40121 | ARMY | 3005, 3010, 3016, 103a, 103c |
C | FORMER NAVAL ORDNANCE STATION LOUISVILLE | 118 ROCHESTER DR | LOUISVILLE | KY | 40214 | NAVY | 3005, 3010, 3016, 103c | 20A
O | LOUISVILLE NAVAL ORDNANCE STATION | SOUTHSIDE DR. MDS 42 | LOUISVILLE | KY | 40214 | NAVY | 3005, 3010, 3016, 103c |
C | HANSCOM FIELD/HANSCOM AIR FORCE BASE | 3245 ABG/CC ENVIRONMENTAL SITE 66CES4/CEVR 12TH GRENIER STREET | HANSCOM AFB | MA | 01731 | AIR FORCE | 3005, 3010, 3016, 103c, 103a | 20A
O | HANSCOM AIR FORCE BASE | 3245 ABG/DEEV | BEDFORD | MA | 01731 | AIR FORCE | 3005, 3010, 3016, 103c, 103a |
C | BELTSVILLE AGRICULTURAL RESEARCH CENTER | BUILDING 003 BARC-WEST 10300 BALTIMORE AVENUE | BELTSVILLE | MD | 20705 | AGRICULTURE | 3010, 3016, 103c, 103a | 20A
O | BELTSVILLE AGRICULTURAL RESEARCH CENTER | BLDING 003 BARC-WEST | BELTSVILLE | MD | 20705 | AGRICULTURE | 3010, 3016, 103c, 103a |
C | ANDREWS AIR FORCE BASE | PERIMETER RD | ANDREWS AFB | MD | 20762 | AIR FORCE | 3005, 3010, 3016, 103c | 20A
O | ANDREWS AIR FORCE BASE | 1776 ABW/CC | ANDREWS AFB | MD | 20331 | AIR FORCE | 3005, 3010, 3016, 103c |
C | ABERDEEN PROVING GROUND (EDGEWOOD AREA) | STEPA-SH-ER | ABERDEEN | MD | 21010 | ARMY | 3005, 3010, 3016, 103c, 103a | 20A
O | ABERDEEN PROVING GROUND | ATTN STEAP-FE-M | ABERDEEN | MD | 21005 | ARMY | 3005, 3010, 3016, 103c, 103a |
C | NAVAL SECURITY GROUP ACTIVITY WINTER HARBOR | 10 FABBRI GREEN STE 10 | WINTER HARBOR | ME | 04693 | NAVY | 3010, 103c | 20A
O | WINTER HARBOR NAVAL SECURITY GROUP ACTIVITY | RT 186 | WINTER HARBOR | ME | 04693 | NAVY | 3010, 103c
C | K.I. SAWYER AIR FORCE BASE | 410 CES DEEV | GWINN | MI | 49843 | AIR FORCE | 3005, 3010, 3016, 103c | 20A
O | K.I. SAWYER AIR FORCE BASE | 410 CSG/DE | GWINN | MI | 49843 | AIR FORCE | 3005, 3010, 3016, 103c
C | NAVAL AND MARINE CORPS RESERVE CENTER BRIDGETON | 10810 LAMBERT INTERNATIONAL BLVD | BRIDGETON | MO | 63044 | NAVY | 3010 | 20, 20A
O | BRIDGETON MARINE CORPS | 10810 NATURAL BRIDGE RD | BRIDGETON | MO | 63044 | NAVY | 3010, 103c
C | COLUMBUS AIR FORCE BASE | US HWY 45 NORTH | COLUMBUS | MS | 39701 | AIR FORCE | 3005, 3010, 3016, 103c | 20A
O | COLUMBUS AIR FORCE BASE | 14 ABG/DE | COLUMBUS AFB | MS | 39701 | AIR FORCE | 3005, 3010, 3016, 103
C | KEESLER AIR FORCE BASE | 508 L STREET, 81ST CES/CEVC | KEELSER AFB | MS | 39534 | AIR FORCE | 3005, 3010, 3016, 103c | 20A
O | KEESLER AIR FORCE BASE | 508 L ST | KEESLER AFB | MS | 39534 | AIR FORCE | 3005, 3010, 3016, 103c
C | CONSTRUCTION BATTALION CENTER GULFPORT | 5200 CBC 2ND STREET | GULFPORT | MS | 39501 | NAVY | 3010, 103c, 103a | 20A
O | GULFPORT NAVAL CONSTRUCTION BATTALION CENTER | 33RD AVE | GULFPORT | MS | 39501 | NAVY | 3010, 103c, 103a
C | POPE AIR FORCE BASE | 43 CES/CEV 560 INTERCEPTOR RD | POPE AIR FORCE BASE | NC | 28308 | AIR FORCE | 3005, 3010, 103c, 3016 | 20A
O | POPE AIR FORCE BASE | 560 INTERCEPTOR RD | POPE AFB | NC | 28308 | AIR FORCE | 3005, 3010, 103c, 3016
C | FORT BRAGG XVIII AIRBORNE CORPS | BLDG J 1737 KNOX ST | FORT BRAGG | NC | 28307 | ARMY | 3010, 3016, 103c, 103a, 3005 | 20A
O | FORT BRAGG | AFZA-DE-D | FORT BRAGG | NC | 28307 | ARMY | 3010, 3016, 103c, 103a, 3005
C | MARINE CORPS AIR STATION CHERRY POINT | US HWY 101 & US HWY 70 | CHERRY POINT | NC | 28533 | NAVY | 3005, 3010, 3016, 103c | 20A
O | CHERRY POINT MARINE CORPS AIR STATION | NC HWY 101 | CHERRY POINT | NC | 28533 | NAVY | 3005, 3010, 3016, 103c
C | CONCRETE MISSILE EARLY WARNING STATION | DET 1 57 AD/DE | CONCRETE | ND | 58221 | AIR FORCE | 103c, 3010, 3005 | 21
O | CONCRETE MISSILE EARLY WARNING STATION | DET 1 57 AD/DE | CONCRETE | ND | 58221 | ARMY | 103c, 3010, 3005
C | OFFUTT AIR FORCE BASE (EX) | 3902 ABW/DEEV | OFFUTT AFB | NE | 68113 | AIR FORCE | 3005, 3010, 3016, 103c, 103a | 20A
O | OFFUTT AIR FORCE BASE | 55 C56/DEEV | OFFUTT AFB | NE | 68113-5000 | AIR FORCE | 3005, 3010, 3016, 103c, 103a
C | CANNON AIR FORCE BASE | BLDG 1—275 CSG/DE | CANNON AFB | NM | 88103 | AIR FORCE | 3005, 3010, 3016, 103c | 20A
O | CANNON AIR FORCE BASE | 27 CSG/DE | CANNON AFB | NM | 88103 | AIR FORCE | 3005, 3010, 3016, 103c
C | HOLLOMAN AIR FORCE BASE | 49 CSC/CC | HOLLOMAN AFB | NM | 88330 | AIR FORCE | 3005, 3010, 3016, 103c, 103a | 20A
O | HOLLOMAN AIR FORCE BASE | 833 CSG/DE | HOLLOMAN AFB | NM | 88330 | AIR FORCE | 3005, 3010, 3016, 103c, 103a
C | SANDIA NATIONAL LABORATORIES | 1515 EUBANK SE | ALBUQUERQUE | NM | 87123 | ENERGY | 3005, 3010, 3016, 103c, 103a | 20A
O | SANDIA NATIONAL LABORATORIES | KIRKLAND AFB EAST | ALBUQUERQUE | NM | 87116 | ENERGY | 3005, 3010, 3016, 103c, 103a
C | BLM-CARLSBAD LANDFILL | T21S,R27E,S27, W .5, SE¼, SW¼ | CARLSBAD | NM | 88220 | INTERIOR | 103c, 3016 | 20A
O | BLM-CARLSBAD LANDFILL | T21SR27ES EC27NMPH | CARLSBAD | NM |  | INTERIOR | 103c, 3016
C | NELLIS AIR FORCE BASE | 4370 N WASHINGTON BLVD STE 117 | NELLIS AFB | NV | 89191 | AIR FORCE | 3005, 3010, 3016, 103c, 103a | 20A
O | NELLIS AIR FORCE BASE | 554 OSW/DE | NELLIS AFB | NV | 89191 | AIR FORCE | 3005, 3010, 3016, 103c, 103a
C | SENECA ARMY DEPOT | 5786 STATE ROUTE 96 | ROMULUS | NY | 14541 | ARMY | 3005, 3010, 3016, 103c | 20A
O | SENECA ARMY DEPOT | RT 96 | ROMULUS | NY | 14541 | ARMY | 3005, 3010, 3016, 103c
C | NIAGARA FALLS STORAGE SITE | 1397 PLETCHER ROAD | LEWISTON | NY | 14092 | ENERGY | 3016, 103c | 20A
O | NIAGARA FALLS STORAGE SITE | EAST OF ROUTE 18, NORTH OF PLETCHER | LEWISTOWN | NY | 14092 | ENERGY | 3016, 103c
C | KNOLLS ATOMIC POWER LABORATORY | 2401 RIVER RD | NISKAYUNA | NY | 12309 | ENERGY | 3005, 3010, 3016, 103c | 20A
O | KNOLLS ATOMIC POWER LABORATORY-KNOLLS SITE | RIVER RD | NISKAYUNA | NY | 12301-1072 | ENERGY | 3005, 3010, 3016, 103c
C | BROOKHAVEN NATIONAL LABORATORY | 53 BELL AVE BLDG 464 | UPTON | NY | 11973 | ENERGY | 3005, 3010, 3016, 103a, 103c | 20A
O | BROOKHAVEN NATIONAL LABORATORY | 53 BELL AVE. | UPTON | NY | 11973 | ENERGY | 3005, 3010, 3016, 103a, 103c
C | NAVAL WEAPONS INDUSTRIAL RESERVE PLANT CALVERTON | GRUMMAN BLVD | CALVERTON | NY | 11933 | NAVY | 103c, 3016, 3010 | 20A, 23
O | CALVERTON NAVAL WEAPONS INDUSTRIAL RESERVE PLANT | WADING RIVER—MANOR RD. | CALVERTON | NY | 11933 | NAVY | 103c, 3016 |
C | GLENN RESEARCH CENTER PLUM BROOK STATION | 6100 COLUMBUS AVE | SANDUSKY | OH | 44870 | NASA | 3010, 3016, 103c, 103a, 3005 | 20A
O | PLUM BROOK STATION | TAYLOR & COLUMBUS ROADS, ERIE COUNTY | SANDUSKY | OH | 44870 | NASA | 3005, 3010, 3016, 103c, 103a |
C | FIELD ARTILLERY TNG CT | 2930 CURRIE RD ATTN ATZR-B | FORT SILL | OK | 73503 | ARMY | 3005, 3010, 3016, 103c | 20A
O | FORT SILL FIELD ARTILLERY | BLDG 1950 | FORT SILL | OK | 73503 | ARMY | 3005, 3010, 3016, 103c |
C | NORTH SMITHFIELD NIKE CONTROL AREA | 274 OLD OXFORD ROAD | NORTH SMITHFIELD | RI | 02876 | AIR FORCE | 103c | 20A
O | NORTH SMITHFIELD NIKE CONTROL AREA | OLD OXFORD ROAD | NORTH SMITHFIELD | RI | 02876 | AIR FORCE | 103c |
C | CHARLESTON AIR FORCE BASE | 437 CSG/DEEV | CHARLESTON | SC | 29404 | AIR FORCE | 3005, 3010, 3016, 103c | 20A
O | CHARLESTON AIR FORCE BASE | 437 ABG/CC | CHARLESTON AFB | SC | 29404 | AIR FORCE | 3005, 3010, 3016, 103c |
C | SHAW AIR FORCE BASE | 345 CULLEN ST | SHAW AFB | SC | 29152 | AIR FORCE | 3005, 3010, 3016, 103c | 20A
O | SHAW AIR FORCE BASE | 363 CSG/DE | SHAW AFB | SC | 29152 | AIR FORCE | 3005, 3010, 3016, 103c |
C | USATC & FORT JACKSON | BLDG 1916 OFF EWELL RD | FORT JACKSON | SC | 29207 | ARMY | 3005, 3010, 3016, 103c | 20A
O | FORT JACKSON AND TRAINING CENTER | JACKSON BLVD. | FORT JACKSON | SC | 29207 | ARMY | 3005, 3010, 3016, 103c |
C | MARINE CORPS AIR STATION BEAUFORT | HWY 21 BLDG 601 | BEAUFORT | SC | 29904 | NAVY | 3005, 3010, 3016, 103c, 103a | 20A
O | BEAUFORT MARINE CORPS AIR STATION | LAFRENE ROAD | BEAUFORT | SC | 29904 | NAVY | 3005, 3010, 3016, 103c, 103a |
C | ELLSWORTH AIR FORCE BASE | 44CSC/DE | ELLSWORTH AFB | SD | 57706 | AIR FORCE | 3005, 3010, 3016, 103c, 103a | 20A
O | ELLSWORTH AIR FORCE BASE | 44 CSG/CC | ELLSWORTH AFB. | SD | 57706 | AIR FORCE | 3005, 3010, 3016, 103c, 103a |
C | FORT BLISS AIR DEFENSE CENTER | ENVIRON MGMT OFC BLDG 1105 W | FORT BLISS | TX | 79916 | ARMY | 3005, 3010, 3016, 103c, 103a | 20A
O | FORT BLISS AIR DEFENSE CENTER | PERSHING DRIVE | FORT BLISS | TX | 79916 | ARMY | 3005, 3010, 3016, 103c, 103a |
C | NAVAL AIR STATION KINGSVILLE | 554 MCCAIN STREET STE 310 | KINGSVILLE | TX | 78363 | NAVY | 3010, 103c,103a, 3005 | 20A
O | KINGSVILLE NAVAL AIR STATION | MILITARY HIGHWAY | KINGSVILLE | TX | 78363 | NAVY | 3010, 103c,103a, 3005
C | FORT LEE | BLDG 6205 SHOP RD | FORT LEE | VA | 23875 | ARMY | 3005, 3010,3016, 103c | 20A
O | FORT LEE | FORT LEE | FORT LEE | VA | 23801 | ARMY | 3005, 3010,3016, 103c
C | GODDARD SPACE FLIGHT CENTER WALLOPS FLIGHT FACILITY-MAIN | ROUTE 175 | WALLOPS ISLAND | VA | 23337 | NASA | 3005, 3010,3016, 103a, 103c | 20A, 16
O | WALLOPS FLIGHT FACILITY | ROUTE 175 | WALLOPS ISLAND | VA | 23337 | NASA | 3005, 3010,3016, 103a, 103c
C | FS-OKANOGAN NF: ALDER CRK | T33N R21E S24 WM NE¼ SW¼ | TWISP | WA | 98856 | AGRICULTURE | 103c | 20A
O | OKANOGAN NF: ALDER CREEK | T33N R21E S24 QS SE WM | TWISP | WA | 98856 | AGRICULTURE | 103c
C | NAVAL RADIO STATION T JIM CREEK | 21027 JIM CREEK RD; 4 MI E OF HWY 530 AT OSO | OSO | WA | 98223 | NAVY | 103c, 3010 | 20A
O | JIM CREEK NAVAL RADIO STATION T | 4 MILES EAST OF STATE HIGHWAY 530 AT OSO | OSO | WA | 98223 | NAVY | 103c, 3010

Federal Agency Hazardous Waste Compliance Docket Update #12, Deletions
Facility name | Facility address | City | State | Zip code | Agency | Reporting mechanism | Correction code
BLM-CYPRUS SIERRITA CORP | T18SR12ESEC1-22 | SAHURITA | AZ | 85640 | INTERIOR | 103c | 2
CONNECTICUT ARMY NATIONAL GUARD GROTON BASE | SOUTH RD | GROTON | CT | 06340 | ARMY | 103c | 2
AUGUSTA NATIONAL GUARD ARMORY | 88 MILLEDGE RD | AUGUSTA | GA | 30904 | ARMY | 3010 | 2
CEDARTOWN NATIONAL GUARD ARMORY | HWY 27 S | CEDARTOWN | GA | 30125 | ARMY | 3010 | 2
HOMEWOOD | RIEGAL & 187TH STREET | HOMEWOOD | IL | 60430 | ARMY | 3016 | 4
BLM-ROLLA RESEARCH CENTER | 900 W 14TH ST | ROLLA | MO | 65401 | INTERIOR | 3010 | 4
BLM-ROLLA RESEARCH CENTER | 1300 BISHOP AVE | ROLLA | MO | 65401 | INTERIOR | 3010 | 4
COMPONENT DEVELOPMENT AND INTEGRATION FACILITY | INDUSTRIAL PARK | BUTTE | MT | 59702 | ENERGY | 3016 3010 103c | 2
BLM-ERMONT MILL TAILINGS | T6SR11WSEC35 | ARGENTA | MT | 59725 | INTERIOR | 103c | 2
BLM-HIGH ORE MINE | T6NR4WSEC36 |  | MT |  | INTERIOR | 103c | 2
PARKER RAILCAR SERVICE CO | 300 S FULTON AVE | FALLS CITY | NE | 68355 | SMALL BUSINESS ADMINISTRATION | 3010 | 4
CLIFFSIDE PARK POST OFFICE | 289 GORGE ROAD | CLIFFSIDE PARK | NJ | 07010 | POSTAL SERVICE | 3010 | 4
PALMER SQUARE STATION | 20 PALMER SQUARE E | PRINCETON | NJ | 08542 | POSTAL SERVICE | 3010 | 1
BLM-KERR MCGEE LAGUNA TOSTON SITE | LEE COUNTY | HOBBS | NM | 88240 | INTERIOR | 103c 3016 | 2
NANSEMOND ORDNANCE DEPOT | RT 135 | SUFFOLK | VA | 23434 | AGRICULTURE | 103c | 3
OFFCE OF INSULAR AFFAIRS | WATER ISLAND CATCHMENT BAY | ST THOMAS | VI | 00802 | INTERIOR | 3010 | 2

[FR Doc. 00-14773 Filed 6-9-00; 8:45 am]

BILLING CODE 6560-50-U